DEPARTMENT OF HOMELAND SECURITY

Coast Guard

33 CFR Part 165

[Docket No. USCG-2020-0357]

Seafair Air Show Performance, Seattle, WA

AGENCY: Coast Guard, DHS.

ACTION: Notification of non-enforcement of regulation.

SUMMARY: The Coast Guard will not enforce the safety zone for the Seafair Air Show Performance in Lake Washington, Seattle, WA in July and August 2020. The Captain of the Port Sector Puget Sound has determined that since this event is cancelled, enforcement of this regulation is not necessary.

DATES: The Coast Guard does not plan to enforce regulations in 33 CFR 165.1319 in July and August 2020.

FOR FURTHER INFORMATION CONTACT: If you have questions about this notification of non-enforcement, call or email CWO2 William E. Martinez, Sector Puget Sound Waterways Management Division, U.S. Coast Guard; telephone 206-217-6051, email SectorPugetSoundWWM@uscg.mil.

SUPPLEMENTARY INFORMATION: The Coast Guard normally enforces the Safety Zone in 33 CFR 165.1319 for the Seattle Seafair Air Show Performance held in Lake Washington, Seattle, WA. This event is typically held annually during last week of July and the first weeks of August. This year, the event organizers cancelled Seafair. Therefore, the Coast Guard does not plan to enforce 33 CFR 165.1319 in July or August 2020.

In addition to this notification of non-enforcement in the Federal Register, if the situation changes and the Captain of the Port Sector Puget Sound (COTP) determines that the regulated area needs to be enforced, the COTP will issue a Broadcast Notice to Mariners and provide actual notice of enforcement to any persons in the regulated area.

Dated: June 23, 2020.
L.A. Sturgis,
Captain, U.S. Coast Guard, Captain of the Port Sector Puget Sound.

[FR Doc. 2020-13983 Filed 7-8-20; 8:45 am]

BILLING CODE 9110-04-P